DEPARTMENT OF ENERGY

Federal Energy Regulatory Commission

[Project No. 2000-010]

Power Authority of the State of New York; Notice of Meetings To Discuss Settlement for Relicensing of the St. Lawrence-FDR Power Project

April 13, 2000.

The establishment of the Cooperative Consultation Process (CCP) Team and the Scoping Process for relicensing of the St. Lawrence-FDR Power Project was identified in the NOTICE OF MEMORANDUM OF UNDERSTANDING, FORMATION OF COOPERATIVE CONSULTATION PROCESS TEAM, AND INITIATION OF SCOPING PROCESS ASSOCIATED WITH RELICENSING THE ST. LAWRENCE-FDR POWER PROJECT issued May 2, 1996, and found in the Federal Register dated May 8, 1996, Volume 61, No. 90, on page 20813.

The following is a list of the tentative meetings for the CCP Team to continue settlement negotiations on ecological and local issues. The meetings will be conducted at the New York Power Authority's (NYPA) Robert Moses Powerhouse, at 10:00 a.m., located in Massena, New York.

The CCP Team will meet:

April 25, 2000

May 31, 2000

June 28, 2000

August 8, 2000

If you would like more information about the CCP Team and the relicensing process, please contact any one of the following individuals:

Mr. Thomas R. Tatham, New York Power Authority, (212) 468-6747, (212) 468-6141 (fax), EMAIL: Tatham.T@NYPA.Gov

Mr. Bill Little, Esq, New York State Dept. of Environmental Conservation, (518) 457-0986, (518) 457-3978 (fax), EMAIL: WGLittle@GW.DEC.State.NY.US

Dr. Jennifer Hill, Federal Energy Regulatory Commission, (202) 219-2797, (202) 219-2732 (fax), EMAIL: Jennifer.Hill@FERC.FED.US

Further information about NYPA and the St. Lawrence-FDR Power Project can be obtained through the Internet at http://www.stl.nypa.gov/index.html. Information about the Federal Energy Regulatory Commission can be obtained at http://www.ferc.fed.us

David P. Boergers,
Secretary.

[FR Doc. 00-9764 Filed 4-18-00; 8:45 am]

BILLING CODE 6717-01-M